DEPARTMENT OF COMMERCE

National Oceanic and Atmospheric Administration

RIN 0648-XC990

North Pacific Fishery Management Council; Public Meeting

AGENCY: National Marine Fisheries Service (NMFS), National Oceanic and Atmospheric Administration (NOAA), Commerce.

ACTION: Notice of a public meeting of the North Pacific Fishery Management Council Charter Management Implementation Committee.

SUMMARY: The North Pacific Fishery Management Council (Council) Charter Implementation Committee will meet in Anchorage, AK.

DATES: The meeting will be held on December 9, 2013, from 1 p.m. to 5 p.m.

ADDRESSES: The meeting will be held at the Council office, 605 W. 4th Avenue, Room 205, Anchorage, AK.

Council address: North Pacific Fishery Management Council, 605 W. 4th Ave., Suite 306, Anchorage, AK 99501-2252.

FOR FURTHER INFORMATION CONTACT: Jane DiCosimo, Council staff, telephone: (907) 271-2809.

SUPPLEMENTARY INFORMATION: The agenda is to identify a preferred management measure(s), from the following committee recommendations. For Regulatory Area 2C: (1) Annual limit combined with maximum size limit; (2) Annual limit combined with reverse slot limit; (3) Bag limit of one fish with a maximum size limit; and (4) Status quo management of one fish less than 45 inches or greater than 68 inches. For Regulatory Area 3A: (1) Status quo management of a bag limit of two fish, with no size limit; (2) Bag limit of two fish, with a maximum size limit on second fish; (3) Annual limit, with bag limit of two fish; and (4) Prohibit retention of skipper/crew harvest. Committee recommendations will be incorporated into an analysis for Council review in December 2013. The Council will recommend a preferred measure(s) for each area for consideration by the International Pacific Halibut Commission for implementation in 2014.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: November 19, 2013.
Tracey L. Thompson,
Acting Deputy Director, Office of Sustainable Fisheries, National Marine Fisheries Service.

[FR Doc. 2013-28071 Filed 11-21-13; 8:45 am]

BILLING CODE 3510-22-P